DEPARTMENT OF DEFENSE

Office of the Secretary

Establishment of the Board of Visitors, Marine Corps University

AGENCY: Department of Defense.

ACTION: Establishment of Federal Advisory Committee.

SUMMARY: Under the provisions of the Federal Advisory Committee Act of 1972 (5 U.S.C. Appendix), the Government in the Sunshine Act of 1976 (5 U.S.C. 552b), and 41 CFR 102-3.50(a), the Department of Defense gives notice that it is establishing the charter for the Board of Visitors, Marine Corps University (“the Board”). The Board has been determined to be in the public interest.

FOR FURTHER INFORMATION CONTACT: Jim Freeman, Advisory Committee Management Officer for the Department of Defense, 703-692-5952.

SUPPLEMENTARY INFORMATION: The Board shall provide independent advice and recommendations on matters relating to the Marine Corps University, as set forth in this notice.

The Board shall provide the Secretary of Defense, through the Secretary of the Navy and the Commanding General, Marine Corps Combat Development Command, independent advice and recommendations on matters pertaining to:

a. U.S. Marine Corps Professional Military Education;

b. All aspects of the academic and administrative policies of the Marine Corps University (“the University”);

c. Higher educational standards and cost effective operations of the University; and

d. The operation and accreditation of the National Museum of the Marine Corps. The Board shall be composed of at least 9 and not more than 11 members who are appointed by the Secretary of Defense or the Deputy Secretary of Defense. The members will be eminent authorities in the fields of education, defense, management, economics, leadership, academia, national military strategy, or international affairs.

Board members will be appointed for a term of service of one-to-four years, and their appointments will be renewed, on an annual basis, according to DoD policies and procedures. No member, unless authorized by the Secretary of Defense or the Deputy Secretary of Defense, may serve more than two consecutive terms of service on the Board, to include its subcommittees. Board members who are not full-time or permanent part-time Federal officers or employees shall be appointed as experts and consultants, under the authority of 5 U.S.C. § 3109, to serve as special government employee (SGE) members. Board members, who are full-time or permanent part-time Federal employees, will serve as regular government employee members. All Board members are appointed to provide advice to the Government on the basis of their best judgment without representing any particular point of view and in a manner that is free from conflict of interest.

All Board members will be reimbursed for travel and per diem as it pertains to official business of the Board. Board members, who are appointed by the Secretary of Defense as SGE members, will serve without compensation.

The Secretary of Defense authorizes the President of the University to select the Board President from among the members of the Board. The position of the Board President will be for a two-year period, not to exceed a member's term of service.

The Secretary of Defense authorizes the President of the University to serve as a non-voting ex-officio member of the Board, whose membership shall not count toward the total membership of the Board. No other full-time or permanent part-time University employee will serve on the Board.

The Secretary of the Navy, pursuant to DoD policies and procedures, may appoint, as deemed necessary, non-voting subject matter experts (SMEs) to assist the Board or its subcommittees on an ad hoc basis. These non-voting SMEs are not members of the Board or its subcommittees and will not engage or participate in any deliberations by the Board or its subcommittees. These non-voting SMEs, if not full-time or permanent part-time Government employees, will be appointed as experts and consultants, under the authority of 5 U.S.C. § 3109, to serve on an intermittent basis to address specific issues under consideration by the Board.

DoD, when necessary and consistent with the Board's mission and DoD policies and procedures, may establish subcommittees, task forces, or working groups to support the Board. Establishment of subcommittees will be based upon a written determination, to include terms of reference, by the Secretary of Defense, the Deputy Secretary of Defense, or the Secretary of the Navy, as the DoD Sponsor.

Such subcommittees shall not work independently of the Board, and shall report all of their recommendations and advice solely to the Board for full and open deliberation and discussion. Subcommittees, task forces, or working groups have no authority to make decisions and recommendations, verbally or in writing, on behalf of the Board. No subcommittee or any of its members can update or report, verbally or in writing, on behalf of the Board, directly to the DoD or any Federal officer or employee.

All subcommittee members will be appointed in the same manner as Board members; that is, the Secretary of Defense or the Deputy Secretary of Defense will appoint subcommittee members, to a term of service of one-to-four years, even if the member in question is already a member of the Board.

Subcommittee members, if not full-time or permanent part-time Federal employees, will be appointed as experts and consultants, under the authority of 5 U.S.C. § 3109, to serve as SGE members, whose appointments must be renewed on an annual basis. With the exception of travel and per diem for official travel related to the Board or its subcommittees, subcommittee members shall serve without compensation.

With the exception of the President of the University, no full-time or permanent part-time University employee will serve on any subcommittees, task forces, or working groups. Each subcommittee member is appointed to provide advice to the Government on the basis of his or her best judgment without representing any particular point of view and in a manner that is free from conflict of interest.

All subcommittees operate under the provisions of FACA, the Sunshine Act, governing Federal statutes and regulations, and established DoD policies and procedures.

The Board's Designated Federal Officer (DFO), pursuant to DoD policy, shall be a full-time or permanent part-time DoD employee, and shall be appointed in accordance with established DoD policies and procedures.

The Board's DFO is required to be in attendance at all Board and subcommittee meetings for the entire duration of each and every meeting. However, in the absence of the Board's DFO, a properly approved Alternate DFO, duly appointed to the Board according to established DoD policies and procedures, shall attend the entire duration of all of the Board and subcommittee meetings.

The DFO, or the Alternate DFO, shall call all of the Board and its subcommittees meetings; prepare and approve all meeting agendas; adjourn any meeting when the DFO, or the Alternate DFO, determines adjournment to be in the public interest or required by governing regulations or DoD policies and procedures; and chair meetings when directed to do so by the official to whom the Board reports.

Pursuant to 41 CFR §§ 102-3.105(j) and 102-3.140, the public or interested organizations may submit written statements to the Board of Visitors, Marine Corps University membership about the Board's mission and functions. Written statements may be submitted at any time or in response to the stated agenda of planned meeting of Board of Visitors, Marine Corps University. All written statements shall be submitted to the Designated Federal Officer for the Board of Visitors, Marine Corps University, and this individual will ensure that the written statements are provided to the membership for their consideration. Contact information for the Board of Visitors, Marine Corps University's Designated Federal Officer can be obtained from the GSA's FACA Database— https://www.fido.gov/facadatabase/public.asp.

The Designated Federal Officer, pursuant to 41 CFR § 102-3.150, will announce planned meetings of the Board of Visitors, Marine Corps University. The Designated Federal Officer, at that time, may provide additional guidance on the submission of written statements that are in response to the stated agenda for the planned meeting in question.

Dated: June 13, 2013.
Aaron Siegel,
Alternate OSD Federal Register Liaison Officer, Department of Defense.

[FR Doc. 2013-14433 Filed 6-17-13; 8:45 am]

BILLING CODE 5001-06-P